ENVIRONMENTAL PROTECTION AGENCY

[FRL-8456-2]

EPA Science Advisory Board; Notification of a Public Teleconference of the Science Advisory Board

AGENCY: Environmental Protection Agency (EPA).

ACTION: Notice.

SUMMARY: The Environmental Protection Agency Science Advisory Board (SAB) Staff Office announces a public teleconference of the Chartered Science Advisory Board to conduct a quality review of two draft SAB documents: (a) SAB Homeland Security Advisory Committee Consultation on the EPA's Emergency Consequence Assessment Tool and Incident-based Microbial Risk Assessment Framework, and (b) SAB Radiation Advisory Committee Advisory on the Agency Draft White Paper Entitled Modifying EPA Radiation Risk Models Based on Bier VII.

DATES: The SAB will hold the public teleconference on September 5, 2007. The teleconference will begin at 1 p.m. and end at 2:30 p.m. (Eastern Time).

Location: Telephone conference call only.

FOR FURTHER INFORMATION CONTACT: Any member of the public wishing to obtain general information concerning this public teleconference should contact Mr. Tom Miller, Designated Federal Officer (DFO), EPA Science Advisory Board (1400F), U.S. Environmental Protection Agency, 1200 Pennsylvania Avenue, NW., Washington, DC 20460; via telephone/voice mail: (202) 343-9982; fax: (202) 233-0643; or e-mail at: miller.tom@epa.gov. General information concerning the EPA Science Advisory Board can be found on the EPA Web Site at: http://www.epa.gov/sab.

SUPPLEMENTARY INFORMATION: Pursuant to the Federal Advisory Committee Act, Public Law 92-463, notice is hereby given that the EPA SAB will hold a public teleconference to review two draft SAB documents. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The purpose of the public teleconference is to conduct a quality review of two draft SAB documents. These documents are the: (a) Science Advisory Board's Homeland Security Advisory Committee Consultation on the EPA's Emergency Consequence Assessment Tool and Incident-based Microbial Risk Assessment Framework, and (b) Advisory on the Agency Draft White Paper Entitled Modifying EPA Radiation Risk Models Based on Bier VII. In reviewing draft reports, the SAB considers whether: (i) The original charge questions to the SAB review panel were adequately addressed in the draft report, (ii) the draft report is clear and logical; and (iii) the conclusions drawn, or recommendations made in the draft report, are supported by the body of the report.

(a) The EPA National Homeland Security Research Center (NHSRC) requested that the SAB provide technical advice on its Emergency Consequence Assessment Tool (ECAT) and its preliminary incident-based Microbial Risk Assessment (MRA) Framework (see 72 FR 20538 of April 25, 2007) which are being developed by the NHSRC. ECAT is an interactive online risk assessment and management software tool to provide health advisors, and other emergency response officials, with rapid access to critical information during an environmental emergency or training exercise. ECAT is designed to assess and provide site-specific numeric estimates of health risks for selected chemical, biological and radiological threat agents; and identify appropriate response actions to mitigate these risks. Additionally, NHRSC asked the SAB for advice on its White Paper describing issues important to the development of a decision framework for assessing health risks and developing clean up levels associated with a decontamination response following exposure to microbial agents. Additional information about the SAB consultation on these two topics is available on the SAB Web Site at: http://www.epa.gov/sab/panels/hsacadhoc.html.

(b) EPA's Office of Radiation and Indoor Air (ORIA) asked the SAB to provide advice on a draft White Paper: Modifying EPA Radiation Risk Models Based on BEIR VII, dated August 2006 (see 71 FR 45545 of August 9, 2006; 71 FR 62950 of October 26, 2006; and 72 FR 8379 of February 26, 2007). EPA's White Paper describes an updated methodology for quantifying estimated cancer risks from environmental exposures to radionuclides. The EPA's methodology is based on the National Research Council (NRC 2006) released Health Risks from Exposure to Low levels of Ionizing Radiation BEIR VII Phase 2 which primarily addresses cancer and genetic risks from low doses of low-LET radiation (BEIR VII). Additional information about the SAB's review of EPA's White Paper, and the development of the SAB draft report, can be found on the Web at: http://www.epa.gov/sab/panels/rac_adv_white_paper_rad_risk_models.htm.

Availability of Teleconference Materials: The draft agenda and other materials will be posted on the SAB Web site at: http://www.epa.gov/sab/ prior to the teleconference.

Procedures for Providing Public Input: Interested members of the public may submit relevant written or oral information for the SAB to consider during the public teleconference. Oral Statements: In general, individuals or groups requesting an oral presentation at a public SAB teleconference will be limited to three minutes per speaker, with no more than a total of one-half hour for all speakers. Interested parties should contact Mr. Tom Miller, DFO, in writing (preferably via e-mail), by August 29, 2007, at the contact information noted above, to be placed on the public speaker list for this teleconference. Written Statements: Written statements should be received in the SAB Staff Office by August 30, 2007, so that the information may be made available to the SAB for their consideration prior to this teleconference. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Tom Miller at (202) 343-9982 or miller.tom@epa.gov. To request accommodation of a disability, please contact Mr. Miller preferably at least ten days prior to the teleconference, to give EPA as much time as possible to process your request.

Dated: August 10, 2007.
Anthony F. Maciorowski,
Deputy Director, EPA Science Advisory Board Staff Office.

[FR Doc. E7-16147 Filed 8-15-07; 8:45 am]

BILLING CODE 6560-50-P